FEDERAL LABOR RELATIONS AUTHORITY

Public Availability of Federal Labor Relations Authority FY 2013 Service Contract Inventory

AGENCY: Federal Labor Relations Authority.

ACTION: Notice of Public Availability of FY 2013 Service Contract Inventories.

SUMMARY: In accordance with Section 743 of Division C of the Consolidated Appropriations Act of 2010 (Pub. L. 111-117), the Federal Labor Relations Authority (FLRA) is publishing this notice to advise the public of the availability of the FY 2013 Service Contract inventory. This inventory provides information on service contract actions over $25,000 that were made in FY 2013. The information is organized by function to show how contracted resources are distributed throughout the agency. The inventory has been developed in accordance with guidance issued on November 5, 2010 by the Office of Management and Budget's Office of Federal Procurement Policy (OFPP). OFPP's guidance is available at http://www.whitehouse.gov/sites/default/files/omb/procurement/memo/service-contract-inventories-guidance-11052010.pdf. The FLRA has posted its inventory and a summary of the inventory on the FLRA homepage at the following link: http://www.flra.gov/webfm_send/866.

FOR FURTHER INFORMATION CONTACT: Questions regarding the service contract inventory should be directed to Xavier Storr, Director, Administrative Services Division, Federal Labor Relations Authority, at (202) 218-7764.

Dated: April 23, 2014.
Sarah Whittle Spooner,
Executive Director.

[FR Doc. 2014-09643 Filed 4-28-14; 8:45 am]

BILLING CODE 6727-01-P